ENVIRONMENTAL PROTECTION AGENCY

[EPA-HQ-OAR-2010-0560; FRL-9184-4]

Call for Information: Information on Greenhouse Gas Emissions Associated With Bioenergy and Other Biogenic Sources

AGENCY: Environmental Protection Agency (EPA).

ACTION: Call for Information; correction.

SUMMARY: The Environmental Protection Agency published in the Federal Register on July 15, 2010 a Call for Information to solicit information and viewpoints from interested parties on approaches to accounting for greenhouse gas emissions from bioenergy and other biogenic sources. Inadvertently, incorrect text was published for one of the items on which EPA seeks comment in Section I.D. This document corrects both that text and a typographical error in a separate reference to the Clean Air Act in Section I.D.

FOR FURTHER INFORMATION CONTACT: Jennifer Jenkins, Climate Change Division, Office of Atmospheric Programs (MC-6207J), Environmental Protection Agency, 1200 Pennsylvania Ave., NW., Washington, DC 20460; telephone number: (202) 343-9361; fax number: (202) 343-2359; e-mail address: jenkins.jennifer@epa.gov.

SUPPLEMENTARY INFORMATION:

Corrections

EPA published a Call for Information in the Federal Register (75 FR 41173) on July 15, 2010. In the published document, the text of the first bulleted item in Section I.D (beginning on page 41175, third column) was incorrect. The correct text for that item is as follows:

• Biomass under PSD/BACT. What criteria might be used to consider biomass fuels and the emissions resulting from their combustion differently with regard to applicability under PSD and with regard to the Best Available Control Technology (BACT) review process under PSD?

In addition, the first full sentence of the third bulleted item in Section I.D (first column, page 41176) contained a typographical error. The correct text for that sentence is: “The Clean Air Act (CAA) provisions typically apply at the unit, process, or facility scale, whereas the IPCC Guidance on accounting for GHG emissions from bioenergy sources was written to be applicable at the national scale.”

Dated: July 27, 2010.
Brian McLean,
Director, Office of Atmospheric Programs.

[FR Doc. 2010-19031 Filed 7-30-10; 8:45 am]

BILLING CODE 6560-50-P